DEPARTMENT OF ENERGY

Federal Energy Regulatory Commission

Combined Notice Of Filings #1

Take notice that the Commission received the following electric rate filings:

Docket Numbers: ER14-2325-000.

Applicants: Mosaic Fertilizer, LLC.

Description: eTariff filing per 35.19a(b): Mosaic Refund Report to be effective N/A.

Filed Date: 12/19/14.

Accession Number: 20141219-5107.

Comments Due: 5 p.m. ET 1/9/15.

Docket Numbers: ER14-2666-002.

Applicants: Avalon Solar Partners, LLC.

Description: Notice of Non-Material Change in Status of Avalon Solar Partners, LLC.

Filed Date: 12/19/14.

Accession Number: 20141219-5080.

Comments Due: 5 p.m. ET 1/9/15.

Docket Numbers: ER14-2666-002.

Applicants: Avalon Solar Partners, LLC.

Description: Errata [Appendix B] to December 19, 2014 Notice of Non-Material Change in Status of Avalon Solar Partners, LLC.

Filed Date: 12/19/14.

Accession Number: 20141219-5135.

Comments Due: 5 p.m. ET 1/9/15.

Docket Numbers: ER14-2937-000.

Applicants: American Transmission Systems, Incorporated, PJM Interconnection, L.L.C.

Description: eTariff filing per 35.19a(b): ATSI submits Refund Report under Docket No. ER14-2937 to be effective N/A.

Filed Date: 12/18/14.

Accession Number: 20141218-5317.

Comments Due: 5 p.m. ET 1/8/15.

Docket Numbers: ER14-2940-001.

Applicants: PJM Interconnection, L.L.C.

Description: Compliance filing per 35: Compliance Filing per 11/28/2014 Order in Docket No. ER14-2940-000 to be effective 12/1/2014.

Filed Date: 12/19/14.

Accession Number: 20141219-5145.

Comments Due: 5 p.m. ET 1/9/15.

Docket Numbers: ER14-2956-002.

Applicants: Hoopeston Wind, LLC.

Description: Tariff Amendment per 35.17(b): Hoopeston MBRA Amendment to be effective 12/18/2014.

Filed Date: 12/19/14.

Accession Number: 20141219-5001.

Comments Due: 5 p.m. ET 12/29/14.

Docket Numbers: ER15-618-001.

Applicants: PJM Interconnection, L.L.C., Virginia Electric and Power Company.

Description: Tariff Amendment per 35.17(b): Dominion Errata Filing to Resubmit Amended Service Agreement No. 3453 to be effective 12/12/2014.

Filed Date: 12/19/14.

Accession Number: 20141219-5147.

Comments Due: 5 p.m. ET 1/9/15.

Docket Numbers: ER15-660-000.

Applicants: PJM Interconnection, L.L.C.

Description: Tariff Withdrawal per 35.15: Notice of Cancellation of Original Service Agreement No. 3528; Queue No. X3-041 to be effective 12/19/2014.

Filed Date: 12/19/14.

Accession Number: 20141219-5082.

Comments Due: 5 p.m. ET 1/9/15.

Docket Numbers: ER15-661-000.

Applicants: Public Service Company of Oklahoma.

Description: § 205(d) rate filing per 35.13(a)(2)(iii): PSO-OMPA Marlow Delivery Point Agreement to be effective 12/4/2014.

Filed Date: 12/19/14.

Accession Number: 20141219-5093.

Comments Due: 5 p.m. ET 1/9/15.

Docket Numbers: ER15-662-000.

Applicants: PJM Interconnection, L.L.C.

Description: Tariff Withdrawal per 35.15: Notice of Cancellation of Service Agreement No. 3588 to be effective 1/2/2015.

Filed Date: 12/19/14.

Accession Number: 20141219-5096.

Comments Due: 5 p.m. ET 1/9/15.

Docket Numbers: ER15-663-000.

Applicants: AEP Generation Resources Inc.

Description: § 205(d) rate filing per 35.13(a)(2)(iii): Ohio Power Supply Agreement Amd Reflecting State Commission Mandated Updates to be effective 1/1/2015.

Filed Date: 12/19/14.

Accession Number: 20141219-5111.

Comments Due: 5 p.m. ET 1/9/15.

Docket Numbers: ER15-664-000.

Applicants: PacifiCorp.

Description: § 205(d) rate filing per 35.13(a)(2)(iii): Certificate of Concurrence to be effective 1/1/2015.

Filed Date: 12/19/14.

Accession Number: 20141219-5158.

Comments Due: 5 p.m. ET 1/9/15.

Docket Numbers: ER15-665-000.

Applicants: AP Holdings, LLC.

Description: § 205(d) rate filing per 35.13(a)(2)(iii): AP Holdings—Seller Category Filing to be effective 2/17/2015.

Filed Date: 12/19/14.

Accession Number: 20141219-5192.

Comments Due: 5 p.m. ET 1/9/15.

Docket Numbers: ER15-666-000.

Applicants: AP Gas & Electric (PA), LLC.

Description: § 205(d) rate filing per 35.13(a)(2)(iii): AP-PA—Seller Category Filing to be effective 2/17/2015.

Filed Date: 12/19/14.

Accession Number: 20141219-5193.

Comments Due: 5 p.m. ET 1/9/15.

Docket Numbers: ER15-667-000.

Applicants: AP Gas & Electric (MD), LLC.

Description: § 205(d) rate filing per 35.13(a)(2)(iii): AP-MD—Seller Category Filing to be effective 2/17/2015.

Filed Date: 12/19/14.

Accession Number: 20141219-5194.

Comments Due: 5 p.m. ET 1/9/15.

Docket Numbers: ER15-668-000.

Applicants: AP Gas & Electric (NJ), LLC.

Description: § 205(d) rate filing per 35.13(a)(2)(iii): AP-NJ Seller Category Filing to be effective 2/17/2015.

Filed Date: 12/19/14.

Accession Number: 20141219-5195.

Comments Due: 5 p.m. ET 1/9/15.

Docket Numbers: ER15-669-000.

Applicants: AP Gas & Electric (IL), LLC.

Description: § 205(d) rate filing per 35.13(a)(2)(iii): AP-IL—Seller Category Filing to be effective 2/17/2015.

Filed Date: 12/19/14.

Accession Number: 20141219-5196.

Comments Due: 5 p.m. ET 1/9/15.

Docket Numbers: ER15-670-000.

Applicants: AP Gas & Electric (OH), LLC.

Description: § 205(d) rate filing per 35.13(a)(2)(iii): AP-OH—Seller Category Filing to be effective 2/17/2015.

Filed Date: 12/19/14.

Accession Number: 20141219-5197.

Comments Due: 5 p.m. ET 1/9/15.

Docket Numbers: ER15-671-000.

Applicants: AP Gas & Electric (NY), LLC.

Description: § 205(d) rate filing per 35.13(a)(2)(iii): AP-NY—Seller Category Filing to be effective 2/17/2015.

Filed Date: 12/19/14.

Accession Number: 20141219-5198.

Comments Due: 5 p.m. ET 1/9/15.

Docket Numbers: ER15-672-000.

Applicants: AP Gas & Electric (TX), LLC.

Description: § 205(d) rate filing per 35.13(a)(2)(iii): AP-TX—Seller Category Filing to be effective 2/17/2015.

Filed Date: 12/19/14.

Accession Number: 20141219-5199.

Comments Due: 5 p.m. ET 1/9/15.

Docket Numbers: ER15-673-000.

Applicants: Southwest Power Pool, Inc.

Description: § 205(d) rate filing per 35.13(a)(2)(iii): Revisions to Attachment AF Section 3—Mitigation Test for Manual Commitments to be effective 2/17/2015.

Filed Date: 12/19/14.

Accession Number: 20141219-5213.

Comments Due: 5 p.m. ET 1/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2014.
Nathaniel J. Davis, Sr.,
Deputy Secretary.

[FR Doc. 2014-30330 Filed 12-24-14; 8:45 am]

BILLING CODE 6717-01-P